ENVIRONMENTAL PROTECTION AGENCY

40 CFR Part 52

[FL-200313; FRL-7453-7]

Approval and Promulgation of Air Quality Implementation Plans; Florida Update to Materials Incorporated by Reference

AGENCY: Environmental Protection Agency (EPA).

ACTION: Final rule; notice of administrative change.

SUMMARY: EPA is updating the materials submitted by Florida that are incorporated by reference (IBR) into the State implementation plan (SIP). The regulations affected by this update have been previously submitted by the State agency and approved by EPA. This update affects the SIP materials that are available for public inspection at the Office of the Federal Register (OFR), Office of Air and Radiation Docket and Information Center, and the Regional Office.

EFFECTIVE DATE: This action is effective February 28, 2003.

ADDRESSES: SIP materials which are incorporated by reference into 40 CFR part 52 are available for inspection at the following locations: Environmental Protection Agency, Region 4, 61 Forsyth Street, SW., Atlanta, GA 30303; Office of Air and Radiation Docket and Information Center, Room B-108, 1301 Constitution Avenue, (Mail Code 6102T), NW., Washington, DC 20460, and Office of the Federal Register, 800 North Capitol Street, NW., Suite 700, Washington, DC.

FOR FURTHER INFORMATION CONTACT: Mrs. Heidi LeSane at the above Region 4 address or at (404) 562-9035.

SUPPLEMENTARY INFORMATION: The SIP is a living document which the State can revise as necessary to address the unique air pollution problems in the state. Therefore, EPA from time to time must take action on SIP revisions containing new and/or revised regulations as being part of the SIP. On May 22, 1997, (62 FR 27968) EPA revised the procedures for incorporating by reference Federally-approved SIPs, as a result of consultations between EPA and OFR. The description of the revised SIP document, IBR procedures and “Identification of plan” format are discussed in further detail in the May 22, 1997, Federal Register document. On June 16, 1999, EPA published a document in the Federal Register (64 FR 32348) beginning the new IBR procedure for Florida. In this document EPA is doing the update to the material being IBRed.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4).

This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 29, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 10, 2003.
A. Stanley Meiburg,
Acting Regional Administrator, Region 4.

Chapter I, title 40, Code of Federal Regulations, is amended as follows:

PART 52—[AMENDED]

1. The authority for citation for part 52 continues to read as follows:

Authority: 42 U.S.C. 7401 et seq.

Subpart K—Florida

2. Section 52.520 paragraphs (b), (c), (d) and (e) are revised to read as follows:

§ 52.520 Identification of plan.

* * * * *

(b) Incorporation by reference. (1) Material listed in paragraphs (c) and (d) of this section with an EPA approval date prior to January 1, 2003, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after January 1, 2003, will be incorporated by reference in the next update to the SIP compilation.

(2) EPA Region 4 certifies that the rules/regulations provided by EPA in the SIP compilation at the addresses in paragraph (b)(3) of this section are an exact duplicate of the officially promulgated State rules/regulations which have been approved as part of the State implementation plan as of January 1, 2003.

(3) Copies of the materials incorporated by reference may be inspected at the Region 4 EPA Office at 61 Forsyth Street, SW., Atlanta, GA 30303; the Office of the Federal Register, 800 North Capitol Street, NW., Suite 700, Washington, DC; or at the EPA, Office of Air and Radiation Docket and Information Center, Room B-108, 1301 Constitution Avenue, (Mail Code 6102T), NW., Washington, DC 20460.

(c) EPA-approved regulations.

EPA-Approved Florida Regulations
State citation (Section) | Title/subject | State effective date | EPA approval date | Explanation
Chapter 62-204 Air Pollution Control—General Provisions
62-204.100 | Purpose and Scope | 3/13/96 | 6/16/99 64 FR 32346
62-204.200 | Definitions | 3/13/96 | 6/16/99 64 FR 32346
62-204.220 | Ambient Air Protection | 3/13/96 | 6/16/99 64 FR 32346
62-204.240 | Ambient Air Quality Standards | 3/13/96 | 6/16/99 64 FR 32346
62-204.260 | Prevention of Significant Deterioration Increments | 3/13/96 | 6/16/99 64 FR 32346
62-204.320 | Procedures for Designation and Redesignation of Areas | 3/13/96 | 6/16/99 64 FR 32346
62-204.340 | Designation of Attainment, Nonattainment, and Maintenance Areas | 3/13/96 | 6/16/99 64 FR 32346
62-204.360 | Designation of Prevention of Significant Deterioration Areas | 3/13/96 | 6/16/99 64 FR 32346
62-204.400 | Public Notice and Hearing Requirements for State Implementation Plan Revisions | 11/30/94 | 6/16/99 64 FR 32346
Chapter 62-210 Stationary Sources—General Requirements
62-210.100 | Purpose and Scope | 11/23/94 | 6/16/99 64 FR 32346
62-210.200 | Definitions | 10/15/96 | 5/27/98 63 FR 28905
62-210.220 | Small Business Assistance Program | 10/15/96 | 5/27/98 63 FR 28905
62-210.300 | Permits Required | 8/15/96 | 1/17/97 62 FR 2587
62-210.350 | Public Notice and Comment | 11/23/94 | 6/16/99 64 FR 32346
62-210.360 | Administrative Permit Corrections | 11/23/94 | 6/16/99 64 FR 32346
62-210.370 | Reports | 11/23/94 | 6/16/99 64 FR 32346
62-210.550 | Stack Height Policy | 11/23/94 | 6/16/99 64 FR 32346
62-210.650 | Circumvention | 10/15/92 | 10/20/94 59 FR 52916
62-210.700 | Excess Emissions | 11/23/94 | 6/16/99 64 FR 32346
62-210.900 | Forms and Instructions | 2/9/93 | 11/7/94 59 FR 46157
Chapter 62-212 Stationary Souces—Preconstruction Review
62-212.100 | Purpose and Scope | 3/13/96 | 6/16/99 64 FR 32346
62-212.300 | General Preconstruction Review Requirements | 11/23/94 | 6/16/99 64 FR 32346
62-212.400 | Prevention of Significant Deterioration (PSD) | 3/13/96 | 6/16/99 64 FR 32346
62-212.500 | Preconstruction Review for Nonattainment Areas | 3/13/96 | 6/16/99 64 FR 32346
62-212.600 | Sulfur Storage and Handling Facilities | 3/13/96 | 6/16/99 64 FR 32346
Chapter 62-242 Motor Vehicle Emissions Standards and Test Procedures
62-242.100 | Purpose and Scope | 3/21/91 | 3/22/93 58 FR 15277
62-242.200 | Definitions | 3/13/96 | 6/16/99 64 FR 32346
62-242.400 | Standards and Procedures for Inspection of Gasoline Fueled Vehicles; Pass/Fail Criteria | 2/2/93 | 10/11/94
62-242.500 | Standards and Procedures for Inspection of Diesel Fueled Vehicles; Pass/Fail Criteria | 2/2/93 | 10/11/94 59 FR 51382
62-242.600 | Equipment Performance Specifications | 2/2/93 | 10/11/94 59 FR 51382
62-242.700 | Tampering Inspection | 2/2/93 | 10/11/94 59 FR 51382
62-242.800 | Low Emissions Adjustment | 2/2/93 | 10/11/94 59 FR 51382
62-242.900 | Training Criteria For Motor Vehicle Emissions Inspection Personnel | 2/2/93 | 10/11/94 59 FR 51382
Chapter 62-243 Tampering With Motor Vehicle Air Pollution Control Equipment
62-243.100 | Purpose and Scope | 5/29/90 | 6/9/92 57 FR 24370
62-243.200 | Definitions | 1/2/91 | 6/9/92 57 FR 24378
62-243.300 | Exemptions | 1/2/91 | 6/9/92 57 FR 24378
62-243.400 | Prohibitions | 1/2/91 | 6/9/92 57 FR 24378
62-243.500 | Certification | 1/2/91 | 6/9/92 57 FR 24378
62-243.600 | Enforcement | 1/2/91 | 6/9/92 57 FR 24378
62-243.700 | Penalties | 5/29/90 | 6/9/92 57 FR 24370
Chapter 62-244 Visible Emissions From Motor Vehicles
62-244.100 | Purpose and Scope | 5/29/90 | 6/9/92 57 FR 24370
62-244.200 | Definitions | 1/2/91 | 6/9/92 57 FR 24378
62-244.300 | Exemptions | 1/2/91 | 6/9/92 57 FR 24378
62-244.400 | Prohibitions | 1/2/91 | 6/9/92 57 FR 24378
62-244.500 | Enforcement | 1/2/91 | 6/9/92 57 FR 24378
62-244.600 | Penalties | 5/29/90 | 6/9/92 57 FR 24370
Chapter 62-252 Gasoline Vapor Control
62-252.100 | Purpose and Scope | 2/2/93 | 3/24/94 59 FR 13883
62-252.200 | Definitions | 2/2/93 | 3/24/94 59 FR 13883
62-252.300 | Gasoline Dispensing Facilities-Stage I Vapor Recovery | 2/2/93 | 3/21/94 59 FR 13883
62-252.400 | Gasoline Dispensing Facilities—Stage II Vapor Recovery | 11/23/94 | 6/16/99 64 FR 32346
62-252.500 | Gasoline Tanker Trucks | 9/10/96 | 7/21/97 62 FR 38918
62-252.800 | Penalties | 2/2/93 | 3/24/94 59 FR 13883
62-252.900 | Form | 2/2/93 | 7/21/97 62 FR 38918
Chapter 62-256 Open Burning and Frost Protection Fires
62-256.100 | Declaration and Intent | 12/09/75 | 11/1/77 42 FR 57124
62-256.200 | Definitions | 11/30/94 | 6/16/99 64 FR 32346
62-256.300 | Prohibitions | 11/30/94 | 6/16/99 64 FR 32346
62-256.400 | Agricultural and Silvicultural Fires | 7/1/71 | 5/31/72 37 FR 10842
62-256.450 | Burning for Cold or Frost Protection | 6/27/91 | 9/9/94 59 FR 46552
62-256.500 | Land Clearing | 11/30/94 | 6/16/99 64 FR 32346
62-256.600 | Industrial, Commercial, Municipal, and Research Open Burning | 7/1/71 | 5/31/72 37 FR 10842
62-256.700 | Open Burning Allowed | 11/30/94 | 6/16/99 64 FR 32346
62-256.800 | Effective Date | 7/1/71 | 5/31/72 37 FR 10842
Chapter 62-296 Stationary Sources—Emission Standards
62-296.100 | Purpose and Scope | 3/13/96 | 6/16/99 64 FR 32346
62-296.320 | General Pollutant Emission Limiting Standards | 3/13/96 | 6/16/99 64 FR 32346
62-296.401 | Incinerators | 3/13/96 | 6/16/99 64 FR 32346
62-296.402 | Sulfuric Acid Plants | 3/13/96 | 6/16/99 64 FR 32346
62-296.403 | Phosphate Processing | 3/13/96 | 6/16/99 64 FR 32346
62-296.404 | Kraft (Sulfate) Pulp Mills and Tall Oil Plants | 3/13/96 | 6/16/99 64 FR 32346
62-296.405 | Fossil Fuel Steam Generators with more than 250 million Btu per Hour Heat Input | 3/13/96 | 6/16/99 64 FR 32346
62-296.406 | Fossil Fuel Steam Generator with less than 250 million Btu per Hour Heat Input, New and Existing Emissions Units | 3/13/96 | 6/16/99 64 FR 32346
62-296.407 | Portland Cement Plants | 11/23/94 | 6/16/99 64 FR 32346
62-296.408 | Nitric Acid Plants | 11/23/94 | 6/16/99 64 FR 32346
62-296.409 | Sulfur Recovery Plants | 11/23/94 | 6/16/99 64 FR 32346
62-296.410 | Carbonaceous Fuel Burning Equipment | 11/23/94 | 6/16/99 64 FR 32346
62-296.411 | Sulfur Storage and Handling Facilities | 11/23/94 | 6/16/99 64 FR 32346
62-296.412 | Dry Cleaning Facilities | 3/13/96 | 6/16/99 64 FR 32346
62-296.413 | Synthetic Organic Fiber Production | 3/13/96 | 6/16/99 64 FR 32346
62-296.414 | Concrete Batching Plants | 3/13/96 | 6/16/99 64 FR 32346
62-296.415 | Soil Thermal Treatment Facilities | 3/13/96 | 6/16/99 64 FR 32346
62-296.500 | Reasonably Available Control Technology (RACT)—Volatile Organic Compounds (VOC) and Nitrogen Oxides (NOX) Emitting Facilities | 11/23/94 | 6/16/99 64 FR 32346
62-296.501 | Can Coating | 11/23/94 | 6/16/99 64 FR 32346
62-296.502 | Coil Coating | 11/23/94 | 6/16/99 64 FR 32346
62-296.503 | Paper Coating | 11/23/94 | 6/16/99 64 FR 32346
62-296.504 | Fabric and Vinyl Coating | 11/23/94 | 6/16/99 64 FR 32346
62-296.505 | Metal Furniture Coating | 11/23/94 | 6/16/99 64 FR 32346
62-296.506 | Surface Coating of Large Appliances | 11/23/94 | 6/16/99 64 FR 32346
62-296.507 | Magnet Wire Coating | 11/23/94 | 6/16/99 64 FR 32346
62-296.508 | Petroleum Liquid Storage | 11/23/94 | 6/16/99 64 FR 32346
62-296.509 | Bulk Gasoline Plants | 10/15/92 | 10/20/94 59 FR 52916
62-296.510 | Bulk Gasoline Terminals | 11/23/94 | 6/16/99 64 FR 32346
62-296.511 | Solvent Metal Cleaning | 11/23/94 | 6/16/99 64 FR 32346
62-296.512 | Cutback Asphalt | 11/23/94 | 6/16/99 64 FR 32346
62-296.513 | Surface Coating of Miscellaneous Metal Parts and Products | 11/23/94 | 6/16/99 64 FR 32346
62-296.514 | Surface Coating of Flat Wood Paneling | 11/23/94 | 6/16/99 64 FR 32346
62-296.515 | Graphic Arts Systems | 11/23/94 | 6/16/99 64 FR 32346
62-296.516 | Petroleum Liquid Storage Tanks with External Floating Roofs | 11/23/94 | 6/16/99 64 FR 32346
62-296.570 | Reasonably Available Control Technology (RACT)—Requirements for Major VOC and NOX—Emitting Facilities | 11/23/94 | 6/16/99 64 FR 32346
62-296.600 | Reasonably Available Control Technology (RACT)—Lead | 3/13/96 | 6/16/99 64 FR 32346
62-296.601 | Lead Processing Operations in General | 8/8/94 | 9/18/96 61 FR 49064
62-296.602 | Primary Lead Acid Battery Manufacturing Operations | 3/13/96 | 9/18/96 61 FR 49064
62-296.603 | Secondary Lead Smelting Operations | 8/8/94 | 9/18/96 61 FR 49064
62-296.604 | Electric Arc Furnace Equipped Secondary Steel Manufacturing Operations | 8/8/94 | 9/18/96 61 FR 49064
62-296.605 | Lead Oxide Handling Operations | 8/8/94 | 9/18/96 61 FR 49064
62-296.700 | Reasonably Available Control Technology (RACT)—Particulate Matter | 11/23/94 | 6/16/99 64 FR 32346
62-296.701 | Portland Cement Plants | 11/23/94 | 6/16/99 64 FR 32346
62-296.702 | Fossil Fuel Steam Generators | 11/23/94 | 6/16/99 64 FR 32346
62-296.703 | Carbonaceous Fuel Burners | 11/23/94 | 6/16/99 64 FR 32346
62-296.704 | Asphalt Concrete Plants | 11/23/94 | 6/16/99 64 FR 32346
62-296.705 | Phosphate Processing operations | 11/23/94 | 6/16/99 64 FR 32346
62-296.706 | Glass Manufacturing Process | 11/23/94 | 6/16/99 64 FR 32346
62-296.707 | Electric Arc Furnaces | 11/23/94 | 6/16/99 64 FR 32346
62-296.708 | Sweat of Pot Furnaces | 11/23/94 | 6/16/99 64 FR 32346
62-296.709 | Lime Kilns | 11/23/94 | 6/16/99 64 FR 32346
62-296.710 | Smelt Dissolving Tanks | 11/23/94 | 6/16/99 64 FR 32346
62-296.711 | Materials Handling, Sizing, Screening, Crushing and Grinding operations | 11/23/94 | 6/16/99 64 FR 32346
62-296.712 | Miscellaneous Manufacturing Process Operations | 11/23/94 | 6/16/99 64 FR 32346
Chapter 62-297 Stationary Sources—Emissions Monitoring
62-297.100 | Purpose and Scope | 3/13/96 | 6/16/99 64 FR 32346
62-297.310 | General Test Requirements | 3/13/96 | 6/16/99 64 FR 32346
62-297.400 | EPA Methods Adopted by Reference | 11/23/94 | 6/16/99 64 FR 32346
62-297.401 | Compliance Test Methods | 3/13/96 | 6/16/99 64 FR 32346 |
62-297.411 | DEP Method 1 | 11/23/94 | 6/16/99 64 FR 32346 |
62-297.412 | DEP Method 2 | 10/15/92 | 10/20/94 59 FR 52916 |
62-297.413 | DEP Method 3 | 10/15/92 | 10/20/94 59 FR 52916 |
62-297.415 | DEP Method 5 | 11/23/94 | 6/16/99 64 FR 32346 |
62-297.416 | DEP Method 5A | 10/15/92 | 10/20/94 59 FR 52916 |
62-297.417 | DEP Method 6 | 11/23/94 | 6/16/99 64 FR 32346 |
62-297.423 | EPA Method 12—Determination of Inorganic Lead Emissions from Stationary Emissions Units | 11/23/94 | 6/16/99 64 FR 32346 |
62-297.440 | Supplementary Test Procedures | 11/23/94 | 6/16/99 64 FR 32346 |
62-297.450 | EPA VOC Capture Efficiency Test Procedures | 11/23/94 | 6/16/99 64 FR 32346 |
62-297.620 | Exceptions and Approval of Alternate Procedures and Requirements | 11/23/94 | 6/16/99 64 FR 32346 |

(d) EPA-approved State Source-specific requirements.

EPA-Approved Florida Source-Specific Requirements
Name of source | Permit No. | State effective date | EPA approval date | Explanation
Harry S Truman, animal import center | NA | 11/26/1996 | 1/19/2000 65 FR 2882

(e) EPA-approved Florida non-regulatory provisions.

EPA-Approved Florida Non-Regulatory Provisions
Provision | State effective date | EPA approval date | Federal Register notice | Explanation
Revision to Maintenance Plans for Jacksonville and Southeast Florida Areas | 12/10/1999 | 8/2/2001 | 66 FR 40137 |
Revision to Maintenance Plan for the Tampa, Florida Area | 7/9/2000 | 8/15/2002 | 67 FR 53314

[FR Doc. 03-4631 Filed 2-27-03; 8:45 am]

BILLING CODE 6560-50-P